FEDERAL COMMUNICATIONS COMMISSION

47 CFR Part 1

[IB Docket No. 00-106, FCC 01-332]

Review of Commission Consideration of Applications Under the Cable Landing License Act

AGENCY: Federal Communications Commission.

ACTION: Final rules; announcement of effective date.

SUMMARY: This rule announces the effective date of the rule published on January 14, 2002. Those rules amended the Commission's rules governing streamlined processing for submarine cable landing licenses. The Commission adopted measures designed to enable international carriers to respond to the demands of the market with minimal regulatory oversight and delay, saving time and resources for both the industry and government, while preserving the Commission's ability to guard against anti-competitive behavior.

DATES: Sections 1.767(a)(7) through (a)(9),(a)(11), (g)(1) through (g)(14), (j), (k), (l)(1), (l)(2), (m)(1) through (m)(2), and 1.768(a) through (i) published at 67 FR 1615 are effective March 15, 2002.

FOR FURTHER INFORMATION CONTACT: Peggy Reitzel, Policy and Facilities Branch, Telecommunications Division, International Bureau, (202) 418-1470.

SUPPLEMENTARY INFORMATION: On November 8, 2001, the Commission adopted a report and order establishing streamlining procedures for processing applications for submarine cable landing licenses (FCC 01-106), a summary of which was published in the Federal Register. See 67 FR 1615 (January 14, 2002). We stated that the rules were effective on March 15, 2002, except for those sections containing new information collection requirements, which require approval by the Office of Management and Budget (OMB). The information collection requirements were approved by OMB on February 19, 2002. See OMB No. 3060-0944. This publication satisfies our statement that the Commission would publish a document announcing the effective date of the rules.

List of Subjects in 47 CFR Part 1

Communications common carriers, Reporting and recordkeeping requirements, Telecommunications miscellaneous rules relating to common carriers.

Federal Communications Commission.
William F. Caton,
Acting Secretary.

[FR Doc. 02-5379 Filed 3-7-02; 8:45 am]

BILLING CODE 6712-01-U